NATIONAL WOMEN'S BUSINESS COUNCIL

Sunshine Act Notice; Meeting

AGENCY: National Women's business council.

ACTION: Notice of Meeting.

SUMMARY: In accordance with the Women's Business Ownership Act, Public Law 105-135 as amended, the National Women's Business Council (NWBC) announces a forthcoming Council meeting and joint meeting of the NWBC and Interagency Committee on Women's Business Enterprise. The meetings will cover action items worked on by the National Women's Business Council and the Interagency Committee on Women's Business Enterprise included by not limited to procurement, access to capital and training.

DATES: February 14, 2001.

ADDRESSES: Council Meeting. The Monarch Hotel, 2401 M Street, NW (24th & M Streets), Washington, DC, 9 a.m. to 12 p.m.

STATUS: Open to the public.

CONTACT: National Women's Business Council, 409 Third Street, SW, Suite 210, Washington, DC 20024, (202) 205-3850—Gilda Presley.

Note: Please call by February 12, 2001.

Gilda Presley,
Administrative Officer, National Women's Business Council.

[FR Doc. 01-3343 Filed 2-5-01; 4:43 pm]

BILLING CODE 6820-AB-M